DEPARTMENT OF LABOR

Office of the Secretary

Agency Information Collection Activities; Submission for OMB Review; Comment Request; Worker Classification Survey; Correction

ACTION: Notice; correction.

SUMMARY: The Department of Labor published a document in the Federal Register on November 8, 2013, announcing submission of the Wage and Hour Division sponsored information collection request (ICR) proposal titled, “Worker Classification Survey,” to the Office of Management and Budget for review and approval for use in accordance with the Paperwork Reduction Act of 1995, 44 U.S.C. 3501 et seq., and to invite comments on the ICR. The document contained an incorrect URL to access a copy of the ICR free of charge via the Internet.

FOR FURTHER INFORMATION CONTACT: Michel Smyth by telephone at 202-693-4129 (this is not a toll-free number) or by email at DOL_PRA_PUBLIC@dol.gov.

Correction

In the Federal Register of November 8, 2013, in FR Doc. 2013-26746 on page 67196, in the first column, correct the first paragraph of the ADDRESSES caption to read:

A copy of this ICR with applicable supporting documentation; including a description of the likely respondents, proposed frequency of response, and estimated total burden may be obtained from the RegInfo.gov Web site at http://www.reginfo.gov/public/do/PRAViewICR?ref_nbr=201303-1235-002 or by contacting Michel Smyth by telephone at 202-693-4129 (this is not a toll-free number) or sending an email to DOL_PRA_PUBLIC@dol.gov.

Dated: November 14, 2013.
Michel Smyth,
Departmental Clearance Officer.

[FR Doc. 2013-28556 Filed 11-27-13; 8:45 am]

BILLING CODE 4510-27-P